DEPARTMENT OF HEALTH AND HUMAN SERVICES

Health Resources and Services Administration

[OMB No. 0915-0379 Revision]

Agency Information Collection Activities: Proposed Collection: Public Comment Request; Information Collection Request Title: Questionnaire and Data Collection Testing, Evaluation, and Research for the Health Resources and Services Administration

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than June 12, 2023.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Samantha Miller, the acting HRSA Information Collection Clearance Officer, at (301) 594-4394.

SUPPLEMENTARY INFORMATION: When submitting comments or requesting information, please include the ICR title for reference.

Information Collection Request Title: Questionnaire and Data Collection Testing, Evaluation, and Research for HRSA—OMB No. 0915-0379—Revision

Abstract: The purpose of information collections under this generic umbrella ICR package is to allow HRSA to continue collecting feedback from members of the public for HRSA to use when developing new questions, questionnaires, and tools; pilot/pre-test instruments to be deployed by HRSA; and to identify problems in instruments currently in use.

This generic clearance is limited to data collection for the development or revision of HRSA tools and data collection instruments, as well as reports for internal decision-making and development purposes. Information collected under this generic clearance will not be used for data collection, reports, or policy documents to be released to the public. It is anticipated that data collection approved under this generic clearance will rely heavily on qualitative techniques and not the collection of numerical data. In general, these activities are not designed to yield results that meet generally accepted standards of statistical rigor but designed to obtain information to develop clearer and more effective and efficient data collection tools that will yield more accurate results and decrease public non-response. The forms submitted under this generic clearance will be voluntary, low-burden, and uncontroversial.

HRSA originally developed this generic umbrella ICR to support similar needs across HRSA's bureaus and offices as reflected in their specific activities informed by their specific authorizing statutes. The purpose is to collect qualitative data from small groups of people in response to short questionnaires, using questions posed on HRSA's website, through focus groups and individual interviews of HRSA staff and members of the public. The abbreviated clearance process of the generic clearance helps ensure timely data gathering on current issues HRSA is addressing (e.g., allows program offices to gather a suitable pool of candidates for piloting future instruments).

HRSA seeks to extend OMB approval of this ICR and existing ICRs that fall under it while including a slight increase in the burden estimate to account for HRSA's implementation of Executive Order 13985, which calls on agencies to advance racial equity and support for underserved communities through identifying and addressing barriers to equal opportunity that underserved communities may face; HRSA will likely conduct additional information collection requests so that HRSA may effectively implement this Executive Order.

Need and Proposed Use of the Information: HRSA conducts interviews, focus groups, usability tests, and field tests/pilot interviews for data collection instrument development and evaluation (including assessment of response errors in data collection instruments). HRSA staff use various techniques to evaluate interviewer-administered, self-administered, telephone, Computer Assisted Personal Interviewing, Computer Assisted Self-Interviewing, Audio Computer-Assisted Self-Interviewing, and web-based questionnaires.

Each information collection under this generic clearance will specify the specific testing and evaluation procedures to be used. Participation will be fully voluntary, and non-participation will not affect eligibility for, or receipt of, future HRSA health services research activities or grant awards, recruitment, or participation. Appropriate consent procedures will be customized and used for each information collection activity and any collection of personal, privacy-protected information will be handled in accordance with all applicable federal requirements. If HRSA wishes to record the encounter, the respondent's permission to record will be obtained before beginning the interview. If consent is not provided, the interview either will not be recorded or not be conducted. When screening is used (e.g., quota sampling), the screening will be as brief as possible, and the screening questionnaire will be provided to OMB for review.

Collection methods—The particular information collection methods used will vary, but may include the following:

• Individual in-depth interviews—In-depth interviews will commonly be used to ensure that the respondent understands the meaning of a questionnaire or strategy. When in-depth interviewing is used, the interview guide will be provided to OMB for review.

• Focus groups—Focus groups will be used to obtain insights into beliefs and understandings of the target audience early in the development of a questionnaire or tool. When focus groups are used, the focus group discussion guide will be provided to OMB for review.

• Expert/Gatekeeper review of tools—In some instances, medical providers or other gatekeepers may review tools to provide feedback on the acceptability and usability of a particular tool. This will usually be in addition to an individual user pretesting the tool.

• Record abstractions—On occasion, the development of a tool or other information collection requires review and interaction with records, rather than individuals.

• “Dress rehearsal” of a specific protocol—In some instances, the proposed pre-testing will constitute a walkthrough of the intended data collection procedure. In these cases, the request will mirror what is expected to occur for the larger scale data collection.

Professionally recognized procedures are followed in each information collection activity to ensure collection of high-quality information. Examples of these procedures could include the following:

• Monitoring by supervisory staff of some telephone interviews;

• Conducting interviews using methods including “think-aloud” techniques and debriefings;

• Computerizing data-entry from mail or paper-and-pencil surveys using scannable forms or double-key entry (i.e., two people input the data from mail or paper-and-pencil surveys into an electronic format, and then comparing the two sets of entries for anomalies);

• Monitoring by observers of focus groups and recording (e.g., video recording, audio recording) of focus group proceedings (subject to participant consent); and

• Employing commonly used statistical validation techniques to ensure accuracy (such as disallowing out-of-range values) of data submitted through on-line surveys.

HRSA is requesting approval for generic information collections previously approved by OMB. These include:

• Health Center Workforce Well-Being Survey: Listening Sessions

• Health Center Workforce Well-Being Survey: Cognitive Sessions

• Health Center Workforce Well-Being Survey: Pilot Testing

• Health Center Workforce Survey Evaluation and Technical Assistance: Pilot Survey

• Fast Track Interviews with National Hypertension Control Initiative Group 2 Participants.

HRSA notes that the previously approved collections are mostly unchanged, except that they may have updates to include any advances in burden estimation or information collection protocols. HRSA also anticipates conducting additional collections as the agency implements Executive Order 13985. To identify areas for improvement, HRSA anticipates collecting and aggregating data by race, ethnicity, gender, disability, income, veteran status, or other key demographic variables, while protecting individual privacy, so that HRSA can use the information to help increase equity in its programs for people from a robust range of demographic groups.

Likely Respondents: Participation in any collections under this clearance will be entirely voluntary, and the privacy of respondents will be preserved to the extent requested by participants and as permitted by law.

Respondents will be recruited by means of advertisements in public venues or through techniques that replicate prospective data collection activities that are the focus of the project. For instance, a survey on physician communication, designed to be administered following an office visit, might be pretested using the same procedure. Each ICR will specify the recruitment procedure to be used.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. HRSA anticipates that the total burden of collections under this generic package will be slightly greater than under the prior approval, due to HRSA's efforts to comply with Executive Order 13985. HRSA also reduced the number of hours for in-person testing as it has become a less popular option among prospective survey participants. The total annual burden hours estimated for this ICR are summarized in the table below.

Total Estimated Annualized Burden Hours
Type of information collection | Number of respondents | Number of responses per respondent | Total responses | Average burden per response (in hours) | Total burden hours
Mail/email ¹ | 1,000 | 1 | 1,000 | 0.26 | 260
Telephone | 1,000 | 1 | 1,000 | 0.26 | 260
Web-based | 1,200 | 1 | 1,200 | 0.25 | 300
Focus Groups | 925 | 1 | 925 | 1.00 | 925
In-person | 250 | 1 | 250 | 1.00 | 250
Automated ² | 500 | 1 | 500 | 1.00 | 500
Cognitive Testing | 700 | 1 | 700 | 1.41 | 987
Total | 5,575 |  | 5,575 |  | 3482
¹ May include telephone non-response follow-up in which case the burden will not change.
² May include testing of database software, Computer Assisted Personal Interviewing software, or other automated technologies.

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Maria G. Button,
Director, Executive Secretariat.

[FR Doc. 2023-07774 Filed 4-12-23; 8:45 am]

BILLING CODE 4165-15-P